DEPARTMENT OF THE TREASURY

Office of Foreign Assets Control

31 CFR Part 582

Publication of Nicaragua Sanctions Regulations Web General Licenses 3 and 4

AGENCY: Office of Foreign Assets Control, Treasury.

ACTION: Publication of web general licenses.

SUMMARY: The Department of the Treasury's Office of Foreign Assets Control (OFAC) is publishing two general licenses (GLs) issued pursuant to the Nicaragua Sanctions Regulations: GLs 3 and 4, each of which was previously made available on OFAC's website and is now expired.

DATES: GL 3 expired on July 18, 2022. GL 4 expired on November 23, 2022. See SUPPLEMENTARY INFORMATION for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

On June 17, 2022 and October 24, 2022, OFAC issued GLs 3 and 4, respectively, to authorize certain transactions otherwise prohibited by the Nicaragua Sanctions Regulations, 31 CFR part 582. Each GL was made available on OFAC's website (www.treas.gov/ofac) when it was issued. Each of these GLs is now expired. The text of these GLs is provided below.

OFFICE OF FOREIGN ASSETS CONTROL

Nicaragua Sanctions Regulations

31 CFR Part 582

GENERAL LICENSE NO. 3

Authorizing the Wind Down of Transactions Involving Empresa Nicaraguense de Minas (ENIMINAS)

(a) Except as provided in paragraph (b) of this general license, all transactions ordinarily incident and necessary to the wind down of transactions involving ENIMINAS, or any entity in which ENIMINAS owns, directly or indirectly, a 50 percent or greater interest that are prohibited by the Nicaragua Sanctions Regulations, 31 CFR part 582 (the NSR), are authorized through 12:01 a.m. eastern daylight time, July 18, 2022, provided that any payment to a blocked person must be made into a blocked account in accordance with the NSR.

(b) This general license does not authorize any transactions otherwise prohibited by the NSR, including transactions involving any person blocked pursuant to the NSR other than the blocked persons described in paragraph (a) of this general license, unless separately authorized.

Bradley T. Smith,

Deputy Director, Office of Foreign Assets Control.

Dated: June 17, 2022.

OFFICE OF FOREIGN ASSETS CONTROL

Nicaragua Sanctions Regulations

31 CFR Part 582

GENERAL LICENSE NO. 4

Authorizing the Wind Down of Transactions Involving the Directorate General of Mines of the Nicaraguan Ministry of Energy and Mines

(a) Except as provided in paragraph (b) of this general license, all transactions ordinarily incident and necessary to the wind down of any transaction involving the Directorate General of Mines (DGM) of the Nicaraguan Ministry of Energy and Mines, or any entity in which DGM owns, directly or indirectly, a 50 percent or greater interest that are prohibited by the Nicaragua Sanctions Regulations, 31 CFR part 582 (NSR), are authorized through 12:01 a.m. eastern standard time, November 23, 2022, provided that any payment to a blocked person must be made into a blocked account in accordance with the NSR.

(b) This general license does not authorize any transactions otherwise prohibited by the NSR, including transactions involving any person blocked pursuant to the NSR, other than the blocked persons described in paragraph (a) of this general license, unless separately authorized.

Andrea M. Gacki,

Director, Office of Foreign Assets Control.

Dated: October 24, 2022.

Andrea M. Gacki,
Director, Office of Foreign Assets Control.

[FR Doc. 2023-03867 Filed 2-23-23; 8:45 am]

BILLING CODE 4810-AL-P